DEPARTMENT OF THE INTERIOR

Fish and Wildlife Service

Aquatic Nuisance Species Task Force Great Lakes Panel

AGENCY: Fish and Wildlife Service, Interior.

ACTION: Notice of meeting.

SUMMARY: This notice announces a meeting of the Aquatic Nuisance Species Task Force Great Lakes Panel on Aquatic Nuisance Species. The meeting topics are identified in the SUPPLEMENTARY INFORMATION.

DATES: The Great Lakes Panel on Aquatic Nuisance Species will meet from 1:00 pm to 5:00 pm on May 10, 2000, and from 8:00 am to 12:00 noon on May 11, 2000.

ADDRESSES: The meeting will be held at the Holiday Inn—Downtown Waterfront, Duluth, Minnesota.

FOR FURTHER INFORMATION CONTACT: Sharon Gross, Executive Secretary, Aquatic Nuisance Species Task Force at 703-358-2308 or Kathe Glassner-Schwayder at 734-665-9135.

SUPPLEMENTARY INFORMATION: Pursuant to section 10(a)(2) of the Federal Advisory Committee Act (5 U.S.C. App. I), this notice announces a meeting of the Aquatic Nuisance Species Task Force Great Lakes Panel on Aquatic Nuisance Species. The Task Force was established by the Nonindigenous Aquatic Nuisance Prevention and Control Act of 1990 (16 U.S.C. 4701-4741).

Topics to be addressed at this meeting include updates from subcommittees on information/education, research coordination and policy and legislation; review and discussion of the information/education strategy for aquatic nuisance prevention and control; review and discussion of the Great Lakes Action Plan; and discussion of current policy initiatives including reauthorization of NISA, ballast water standards, and Michigan State Ballast Water Legislation.

Minutes of the meeting will be maintained by the Executive Secretary, Aquatic Nuisance Species Task Force, Suite 851, 4401 North Fairfax Drive, Arlington, Virginia 22203-1622. Minutes for the meetings will be available at this location for public inspection during regular business hours, Monday through Friday.

Dated: April 28, 2000.
Cathleen I. Short,
Aquatic Nuisance Species Task Force Co-Chair, Assistant Director—Fisheries.

[FR Doc. 00-11091 Filed 5-3-00; 8:45 am]

BILLING CODE 4310-55-M